DEPARTMENT OF HEALTH AND HUMAN SERVICES

Substance Abuse and Mental Health Services Administration

Fiscal Year (FY) 2001 Funding Opportunities

AGENCY: Substance Abuse and Mental Health Services Administration, HHS.

ACTION: Notice of Funding Availability.

SUMMARY: The Substance Abuse and Mental Health Services Administration (SAMHSA) Center for Substance Abuse Prevention (CSAP),Center for Substance Abuse Treatment (CSAT), and Center for Mental Health Services (CMHS) announce the availability of FY 2001 funds for a cooperative agreement for the following activity: Competing Continuation of the Starting Early Starting Smart Data Coordinating Center (DCC).

Eligibility: Only the currently funded SESS Data Coordinating Center, operated by the Evaluation, Management & Training (EMT), Associates may apply. Only EMT may apply because they have served as the Data Coordinating Center for the cross-site study during the past 2+ years of data collection. The existing SESS Data Coordinating Center (DCC) has developed the necessary infrastructure for the collection, analysis and dissemination of SESS project data, and has experience working with the current 12 SESS grantees.

Availability of Funds: Up to $3.99 million ($1.740 million for the first year and $2.25 million for the second year) will be available for this award to the DCC (direct and indirect). The actual level will depend on the availability of appropriated funds and progress achieved.

Period of Support: The period of support will be for 22 months. Year 1 will consist of the first 12 months, which will be from June 1, 2001 to May 31, 2002. Year 2 will cover the subsequent 10 months from June 1, 2002 to March 31, 2003. Annual awards will depend on the availability of funds and progress achieved.

Catalog of Federal Domestic Assistance Number: 93.230.

Program Contact: For questions concerning program issues, contact: Michele M. Basen, M.P.A., Office on Early Childhood, Center for Substance Abuse Prevention, Substance Abuse and Mental Health Services Administration, Rockwall II, Room 950, 5600 Fishers Lane, Rockville, MD 20857, (301) 443-6478, E-Mail mbasen@samhsa.gov.

For questions regarding grants management issues, contact: Edna Frazier, Division of Grants Management, OPS, Substance Abuse and Mental Health Services Administration, Rockwall II, 6th Floor, 5600 Fishers Lane, Rockville, Maryland 20857, (301) 443-6816, E-Mail: efrazier@samhsa.gov.

Dated: March 26, 2001.
Richard Kopanda,
Executive Officer, Substance Abuse and Mental Health Services Administration.

[FR Doc. 01-7997 Filed 3-30-01; 8:45 am]

BILLING CODE 4162-20-P